ENVIRONMENTAL PROTECTION AGENCY

[ER-FRL-8990-4]

Environmental Impacts Statements; Notice of Availability

Responsible Agency: Office of Federal Activities, General Information (202) 564-1399 or http://www.epa.gov/compliance/nepa/.

Weekly receipt of Environmental Impact Statements filed 05/03/2010 through 05/07/2010 pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100168, Final EIS, NIH, MD, National Institute of Health (NIH), Transport of Laboratory Personnel Potentially Exposed to Infectious Agents from Fort Detrick, Frederick, MD to the National Institutes of Health Clinical Center, Bethesda, MD, Wait Period Ends: 06/16/2010, Contact: Valerie Nottingham 301-480-8056.

EIS No. 20100169, Final Supplement, BR, CA, Mormon Island Auxiliary Dam Modification Project, Addressing Hydrologic, Seismic, Static, and Flood Management Issues, Sacramento and El Dorado Counties, CA, Wait Period Ends: 06/14/2010, Contact: Matthew See 916-989-7192.

EIS No. 20100170, Final EIS, FHWA, IL, TIER 1—Elgin O'Hare—West Bypass Study, To Identify Multimodal Transportation Solutions, Cook and DuPage Counties, IL, Wait Period Ends: 06/14/2010, Contact: Matt Fuller 217-492-4625.

EIS No. 20100171, Final Supplement, FHWA, NH, I-93 Highway Improvements, from Massachusetts State Line to Manchester, NH, Funding, NPDES and U.S. Army COE Section 404 Permits Issuance, Hillsborough and Rockingham Counties, NH, Wait Period Ends: 06/14/2010, Contact: Jamison S. Sikora 602-228-3057 Ext. 107.

EIS No. 20100172, Final EIS, USFS, WY, Rattlesnake Forest Management Project, Proposes to Implement Multiple Resource Management Action, Bearlodge Ranger District, Black Hills National Forest, Crook County, WY, Wait Period Ends: 06/14/2010, Contact: Elizabeth Krueger 307-283-1361.

EIS No. 20100173, Final EIS, NPS, AL, Tuskegee Airmen National Historic Site, General Management Plan, Implementation, Tuskegee, AL, Wait Period Ends: 06/14/2010, Contact: Amy Wirsching 404-507-5708.

Amended Notices

EIS No. 20100073, Draft EIS, USA, AK, Resumption of Year-Round Firing Opportunities at Fort Richardson, Proposal to Strengthen Unit Preparedness and Improve Soldier and Family Quality of Life by Maximizing Live-Fire Training, Fort Richardson, AK, Comment Period Ends: 06/14/2010, Contact: Robert Hall 907-384-2546.

Revision to FR Notice Published 03/12/2010: Extending Comment Period from 05/10/2010 to 06/14/2010.

Dated: May 11, 2010.
Robert W. Hargrove,
Director, NEPA Compliance Division, Office of Federal Activities.

[FR Doc. 2010-11587 Filed 5-13-10; 8:45 am]

BILLING CODE 6560-50-P